DEPARTMENT OF AGRICULTURE

Forest Service

North Gifford Pinchot National Forest Resource Advisory Committee Meeting Notice

AGENCY: Forest Service, USDA.

ACTION: Notice of meeting.

SUMMARY: The North Gifford Pinchot National Forest Resource Advisory Committee will meet on Tuesday, March 19, 2002, at the Virgil R. Lee building, 221 SW 13th Street, Chehalis, Washington. The meeting will begin at 9 a.m. and continue until 3 p.m. The purpose of the meeting is to:

(1) Prioritize the list of Title II projects for fiscal year 2002,

(2) Provide for a Public Open Forum, and

(3) Discus the percentage of indirect support costs.

All North Gifford Pinchot National Forest Resource Advisory Committee meetings are open to the public. Interested citizens are encouraged to attend. The “open forum” provides opportunity for the public to bring issues, concerns, and discussion topics to the Advisory Committee. The “open forum” is scheduled as part of agenda item (2) for this meeting. Interested speakers will need to register prior to the open forum period. The committee welcomes the public's written comments on committee business at any time.

FOR FURTHER INFORMATION CONTACT: Direct questions regarding this meeting to Tom Knappenberger, Public Officer, at (360) 891-5005, or write Forest Headquarters Office, Gifford Pinchot National Forest, 10600 NE. 51st Circle, Vancouver, WA 98682.

Dated: March 1, 2002.
Claire Lavendel,
Forest Supervisor.

[FR Doc. 02-5423 Filed 3-6-02; 8:45 am]

BILLING CODE 3410-11-M